DEPARTMENT OF THE INTERIOR

Bureau of Reclamation

[DES-07-17]

North Sonoma County Agricultural Reuse Project (NSCARP)—Sonoma County, CA

AGENCY: Bureau of Reclamation, Interior.

ACTION: Notice of Availability (NOA) of the Draft Environmental Impact Statement/Environmental Impact Report (EIS/EIR) and notice of public hearings.

SUMMARY: Pursuant to section 102(2)(c) of the National Environmental Policy Act of 1969 (NEPA), and Public Resources Code, sections 21000-21177 of the California Environmental Quality Act (CEQA), the Bureau of Reclamation (Reclamation), the lead Federal agency, and the Sonoma County Water Agency (SCWA), the local sponsor and CEQA lead agency, have made available for public review and comment a Draft EIS/EIR for the NSCARP.

The NSCARP Draft EIS/EIR describes a no action alternative (Alternative 1) and three action alternatives (Alternative 2, Alternative 3, and Alternative 4) that include numerous features that would create an agricultural irrigation system comprised of 19 recycled water storage reservoirs totaling about 11,200 acre-feet in storage capacity. In addition, NSCARP would involve the design and construction of approximately 112 miles of transmission pipeline and numerous pumping stations for conveying water from the Geysers Pipeline to the storage reservoirs, and for distribution of the storage recycled water from the reservoirs to approximately 21,500 acres of agricultural lands.

As part of the NEPA/CEQA process, one public hearing will be held to provide interested individuals and organizations with an opportunity to comment verbally and in writing on the NSCARP Draft EIS/EIR.

DATES: Comments on the NSCARP Draft EIS/EIR should be submitted on or before May 18, 2007 to Mr. David Cuneo, Senior Environmental Specialist, at the address below.

The public hearing will be held on May 15, 2007 at 10 a.m. at Santa Rosa, CA.

ADDRESSES: The public hearing will be held at: Sonoma County Board of Supervisors Meeting Room, 575 Administration Drive, Santa Rosa, California 95403.

Send written comments on the NSCARP Draft EIS/EIR to Mr. David Cuneo, Sonoma County Water Agency, P.O. Box 11628, Santa Rosa, CA 95406-1628 (e-mail: david@scwa.ca.gov). Send requests for a compact disk or a bound copy of the Draft EIS/EIR to Mr. David Cuneo at the address above, telephone: (707) 547-1935, or e-mail: david@scwa.ca.gov. The NSCARP Draft EIS/EIR will also be available on the Web at: http://www.usbr.gov/mp/nepa/nepa_projdetails.cfm?Project_ID=2152 and http://www.sonomacountywater.org/projects/.

FOR FURTHER INFORMATION CONTACT: Mr. Douglas Kleinsmith, Reclamation, Environmental Specialist, telephone: (916) 978-5034 or e-mail: dkleinsmith@mp.usbr.gov; or Mr. David Cuneo, Sonoma County Water Agency, telephone (707) 547-1935 or e-mail: david@scwa.ca.gov.

SUPPLEMENTARY INFORMATION: The NSCARP Draft EIS/EIR discusses the project background, purpose and need, project description and alternatives, and related projects. The Draft EIS/EIR addresses the impacts of project construction and operation on aesthetics, agricultural resources, air quality, biological resources, cultural resources, environmental justice, geology and soils, hydrology/water quality, land use, noise, population and housing, public health and safety, public services/utilities, recreation, and transportation and circulation.

The NSCARP area encompasses portions of Sonoma County involving four geographical sub areas within the Russian River watershed: Alexander Valley, Dry Creek Valley, North Alexander Valley, and Russian River Valley, comprising about 46,000 acres. These four sub areas correspond to discrete service areas that would be served recycled water by sub area-specific water storage and transmission facilities.

Federal and state regulatory agencies have expressed concerns regarding the potential impacts to fisheries resources and habitat within the Russian River and its tributaries. These concerns have and will continue to result in increased scrutiny of future diversion of water for all uses. In 1996, NOAA Fisheries listed the coho salmon as threatened in the Russian River watershed and adjacent watersheds pursuant to the Federal Endangered Species Act (ESA). Chinook salmon and steelhead trout were similarly listed in 1997 and 1999, respectively. Through the proposed distribution, storage, and use of recycled water for agricultural purposes, the SCWA has identified a strategy to reduce reliance on diversions from the Russian River and other natural waterways.

The use of recycled water for irrigation for agricultural purposes has been occurring in California since 1890 (California Recycled Water Task Force 2003). By the year 2000, there were 234 wastewater treatment plants providing recycled water for agricultural and landscape purposes in California (California Recycled Water Task Force 2003). Today, recycled water in California is being used for a variety of purposes, such as irrigation for row crops, vineyard, pasture, stock feed, nursery products, turf in parks and schoolyards, and landscaping. In Sonoma County, the City of Santa Rosa, Town of Windsor, and the Airport-Larkfield-Wikiup Sanitation Zone currently provide recycled water for irrigation of about 7,200 acres of agricultural land.

The SCWA regulates the flow of the Russian River for the benefit of agricultural, municipal, and instream beneficial uses. The use of recycled water and conjunctive use of surface and groundwater supplies within the SCWA service area are all important factors in evaluating the management of the regional water supply. SCWA believes the use of recycled water to offset surface and groundwater sources used by agricultural entities in the Russian River, Alexander, North Alexander, and Dry Creek valleys to benefit fisheries in the Russian River watershed. The recycled water would be used for agricultural purposes consistent with the California Code of Regulations, Title 22, pertaining to the use of tertiary-treated recycled water.

Copies of the NSCARP Draft EIS/EIR are available for public review at the following locations:

• Sonoma County Water Agency, 404 Aviation Boulevard, Santa Rosa, CA 95403.

• Sonoma County Central Library, Third and E Street, Santa Rosa, CA 95404.

• Healdsburg Regional Library, Piper and Center Streets, Healdsburg, CA 95448.

• Windsor Regional Library, 9291 Old Redwood Highway, Windsor, CA 95492.

• Guerneville Regional Library, 14107 Armstrong Woods Road, Guerneville, CA 95446.

• Forestville Library Station, 7050 Covey Road, Forestville, CA 95436.

• Cloverdale Regional Library, 401 N Cloverdale Boulevard, Cloverdale, CA 95425.

• Bureau of Reclamation, Denver Office Library, Building 67, Room 167, Denver Federal Center, 6th and Kipling, Denver, CO 80225.

• Bureau of Reclamation, Mid-Pacific Regional Office Library, 2800 Cottage Way, W-1825, Sacramento, CA 95825-1898.

• Natural Resources Library, U.S. Department of the Interior, 1849 C Street NW., Main Interior Building, Washington, DC 20240-0001.

Additional Information

If special assistance is required at the public hearings, please contact Mr. David Cuneo at (707) 547-1935 (e-mail: david@scwa.ca.gov). Please notify Mr. Cuneo as far in advance of the hearings as possible to enable the SCWA to secure the needed services. If a request cannot be honored, the requestor will be notified.

Comments received in response to this notice will become part of the administrative record and are subject to public inspection. Our practice is to make comments, including names, home addresses, home phone numbers, and e-mail addresses of respondents, available for public review. Individual respondents may request that we withhold their names and/or home addresses, etc., but if you wish us to consider withholding this information, you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives or officials of organizations or businesses, available for public inspection in their entirety.

Dated: December 11, 2006.
Kirk C. Rodgers,
Regional Director, Mid-Pacific Region.

This document was received at the Office of the Federal Register on March 22, 2007.

[FR Doc. E7-5560 Filed 3-27-07; 8:45 am]

BILLING CODE 4310-MN-P